DEPARTMENT OF COMMERCE

National Oceanic and Atmospheric Administration (NOAA)

[Docket No. 080605738-8739-01]

Cooperative Institute: Eastern U.S. Continental Shelf Frontier Exploration, Research, and Technology Development

AGENCY: Cooperative Institutes Program Office (CIPO), Office of Oceanic and Atmospheric Research, National Oceanic and Atmospheric Administration (NOAA), Department of Commerce.

ACTION: Notice of funding availability.

SUMMARY: The Office of Oceanic and Atmospheric Research (OAR) invites applications for the establishment of a cooperative institute (CI) that will: Explore and research continental shelf frontier ecosystems; advance the state of knowledge of both shallow and deep coral ecosystems under U.S. jurisdiction; and develop, test and evaluate advanced ocean technologies and tools. This CI will facilitate a long-term collaborative environment between NOAA and the recipient(s) within which broad-based exploration, research, technology development, and education and outreach capabilities that focus on NOAA's priorities for the living and non-living marine resources within and beyond the eastern U.S. Continental Shelf can be developed and sustained. The CI may consist of one or more research institutions with expertise and capabilities in the NOAA priority areas that contribute to the areas of research described as research themes listed below.

The CI should possess outstanding capabilities to conduct ocean exploration, research and technology development in the three research themes summarized below. Additionally, the CI should possess the ability to conduct outreach and education activities in support of these three research themes.

i. Develop advanced underwater technologies. The CI will expand the scope and efficiency of exploration and research by developing, testing, and applying new and/or innovative uses of existing technologies to ocean exploration and research activities.

ii. Explore and research the frontier regions of the eastern U.S. Continental Shelf and beyond. The CI will focus on the exploration and research of ecosystems and habitats of economic, hazardous, scientific or cultural importance within and beyond the eastern U.S. Continental Shelf as defined by the NOAA Ocean Exploration and Research program.

iii. Vulnerable Deep and Shallow Coral Ecosystems. Priority activities will include supporting ocean exploration and research using advanced underwater technologies and techniques to improve the understanding of coral and sponge ecosystems.

This announcement provides requirements for the proposed CI and includes details for the technical program, evaluation criteria, and competitive selection procedures. Applicants should review NOAA's CI Policy and CI Interim Handbook (both available at http://www.nrc.noaa.gov/ci) prior to preparing a proposal for this announcement.

DATES: Proposals must be received by OAR no later than October 6, 2008, 5 p.m., E.T. Proposals submitted after that date will not be considered. Applicants are strongly encouraged to apply online (http://www.grants.gov), but paper submissions are acceptable only if Internet access is not available. If a hard copy application is submitted, the original and two unbound copies of the proposal should be included. Paper submissions should be sent to: NOAA, OAR, 1315 East West Highway, Room 11326, Silver Spring, Maryland 20910, Attn: Dr. John Cortinas. No e-mail or facsimile proposal submissions will be accepted.

ADDRESSES: Applications submitted in response to this announcement should be submitted through the Grants.gov Web site. All application materials can be found at the Grants.gov portal: http://www.grants.gov.

Applicants without Internet access may contact Dr. John Cortinas, telephone (301) 734-1090, or send a letter to Dr. John Cortinas, 1315 East West Highway, Room 11326, Silver Spring, Maryland 20910. Printed forms from Grants.gov are not acceptable if submitting an application in hard copy.

Grants.gov requires applicants to register with the system prior to submitting an application. This registration process can take several weeks, involving multiple steps. In order to allow sufficient time for this process, you should register as soon as you decide that you intend to apply, even if you are not yet ready to submit your proposal. If an applicant has problems downloading the application package from Grants.gov, contact Grants.gov Customer Support at (800) 518-4726 or support@grants.gov. For non-Windows computer systems, please see http://www.grants.gov/MacSupport for information on how to download and submit an application through Grants.gov.

FOR FURTHER INFORMATION CONTACT: Dr. John Cortinas, 1315 East West Highway, Room 11326, Silver Spring, Maryland 20910; telephone (301) 734-1090; e-mail: John.Cortinas@noaa.gov.

SUPPLEMENTARY INFORMATION: The purpose of this announcement is to invite the submission of proposals to establish a CI for the eastern U.S. Continental Shelf frontier exploration, research, and technology development, and to provide details on the application, review, and selection process. This CI will give NOAA the benefit of working with complementary capabilities at one or more research institutions that contribute to NOAA's ocean exploration, research, and technology priorities on the eastern U.S. Continental Shelf.

CI Concept/Program Background

A CI is a NOAA-supported, non-Federal organization that has established an outstanding research program in one or more areas that are relevant to the NOAA mission “to understand and predict changes in the Earth's environment and conserve and manage coastal and marine resources to meet our Nation's economic, social, and environmental needs.” CIs are established at research institutions that also have a strong education program with established graduate degree programs in NOAA-related sciences. The CI provides significant coordination of resources among all non-government partners and promotes the involvement of students and post-doctoral scientists in NOAA-funded research. The CI provides mutual benefits with value provided by all parties.

NOAA establishes a new CI competitively when it identifies a need to sponsor a long-term (5-10 years) collaborative partnership with one or more outstanding non-Federal, non-profit research institutions. For NOAA, the purpose of this long-term collaborative partnership is to promote research, education, training, and outreach aligned with NOAA's mission; to obtain research capabilities that do not exist internally; and/or to expand research capacity in NOAA-related sciences to:

• Conduct collaborative, long-term research that involves NOAA scientists and those at the research institution(s) from one or more scientific disciplines of interest to NOAA;

• Utilize the scientific, education, and outreach expertise at the research institution(s) that, depending on NOAA's research needs, may or may not be located near a NOAA facility;

• Support student participation in NOAA-related research studies; and

• Strengthen or expand NOAA-related research capabilities and capacity at the research institution(s) that complement and contribute to NOAA's ability to reach its mission goals.

A CI will consist of one or more research institutions that demonstrate outstanding performance within one or more established research programs in NOAA-related sciences. These institutions may include Minority Serving Institutions and universities with strong departments that can contribute to the proposed activities of the CI.

CIs conduct research under approved scientific research themes (see Section I.B of the full funding opportunity announcement for a more detailed description of research themes) and Tasks (additional tasks can be proposed by the CI):

i. Task I. Task I activities are related to the management of the CI, as well as general education and outreach activities. This task also includes support of postdoctoral and visiting scientists conducting activities within the research themes of the CI that are approved by the CI Director, in consultation with NOAA, and are relevant to NOAA and the CI's mission goals.

ii. Task II. Task II activities usually involve on-going direct collaboration with NOAA scientists. This collaboration typically is fostered by the collocation of Federal and CI employees.

iii. Task III. Task III activities require minimal collaboration with NOAA scientists and may include research funded by other NOAA competitive grant programs.

Electronic Access: The full text of the full funding opportunity announcement for this program can be accessed via the Grants.gov Web site at http://www.grants.gov. The announcement will also be available by contacting the program officials identified under FOR FURTHER INFORMATION CONTACT. Applicants must comply with all requirements contained in the full funding opportunity announcement.

Statutory Authority: 15 U.S.C. 1540, 16 U.S.C. 753a, 16 U.S.C. 1884, 16 U.S.C. 6406, and 33 U.S.C. 883d.

CFDA: 11.432, OAR Joint and Cooperative Institutes.

Funding Availability: NOAA expects that approximately $2.5M will be available for the CI in the first year of the award. The Task I budget should not exceed $150,000. The final amount of funding available for Task I will be determined during the negotiation phase of the award based on availability of funding. Funding for subsequent years is expected to be constant throughout the period and will depend on the quality of the research, the satisfactory progress in achieving the stated goals described in the proposal, continued relevance to program objectives, and the availability of funding.

Eligibility: Eligibility is limited to non-Federal public and private non-profit universities, colleges and research institutions that offer accredited graduate level degree-granting programs in NOAA-related sciences, as described in the CI Interim Handbook located at http://www.nrc.noaa.gov/ci/.

Cost Sharing Requirements: To stress the collaborative nature and investment of a CI by both NOAA and the research institution, cost sharing is required. There is no minimum cost sharing requirement; however, the amount of cost sharing will be considered when determining the level of the CI's commitment under NOAA's standard evaluation criteria for overall qualifications of applicants. Acceptable cost-sharing proposals include, but are not limited to, offering a reduced indirect cost rate against activities in one or more Tasks, waiver of indirect costs assessed against base funds and/or Task I activities, waiver or reduction of any costs associated with the use of facilities at the CI, and full or partial salary funding for the CI director, administrative staff, graduate students, visiting scientists, or postdoctoral scientists.

Evaluation and Selection Procedures: The general evaluation criteria and selection factors that apply to full applications to this funding opportunity are summarized below. The evaluation criteria for full applications will have different weights and details. Further information about the evaluation criteria and selection factors can be found in the full funding opportunity announcement.

Evaluation Criteria for Projects: Proposals will be evaluated using the standard NOAA evaluation criteria. Various questions under each criterion are provided to ensure that the applicant includes information that NOAA will consider important during the evaluation, in addition to any other information provided by the applicant.

i. Importance and/or relevance and applicability of proposed project to the program goals (25 percent): This criterion ascertains whether there is intrinsic value in the proposed work and/or relevance to NOAA, Federal, regional, state, or local activities.

• Does the proposal include research goals and projects that address the critical issues identified in NOAA's 5-year Research Plan, NOAA's Strategic Plan, and the priorities described in the program priorities (see Section I.B of the full federal opportunity announcement)?

• Is there a demonstrated commitment (in terms of resources and facilities) to enhance existing NOAA and CI resources to foster a long-term collaborative research environment/culture?

ii. Technical/scientific merit (30 percent): This criterion assesses whether the approach is technically sound and/or innovative, if the methods are appropriate, and whether there are clear project goals and objectives.

• Does the project description include a summary of clearly stated goals to be achieved during the five year period that reflect NOAA's strategic plan and goals?

• Does the project description include innovative approaches to meeting the undersea technology development, exploration and research goals of the proposal?

• Does the CI involve partnerships with other universities or research institutions, including Minority Serving Institutions and universities with strong departments that can contribute to the proposed activities of the CI?

iii. Overall qualifications of applicants (30 percent): This criterion ascertains whether the applicant possesses the necessary education, experience, training, facilities, and administrative resources to accomplish the project.

• If the institution(s) and/or Principal Investigators have received current or recent NOAA funding, is there a demonstrated record of outstanding performance working with NOAA and/or NOAA scientists on research projects?

• Is there nationally and/or internationally recognized expertise within the appropriate disciplines needed to conduct the collaborative/interdisciplinary research described in the proposal?

• Is there a well-developed business plan that includes fiscal and human resource management, as well as strategic planning and accountability?

• Are there any unique capabilities in a mission-critical area of research for NOAA?

• Does the CI possess the necessary undersea technical expertise and resources, and/or provide access to the technical resources outlined in the proposal?

• Has the applicant shown a substantial investment to the NOAA partnership, as demonstrated by the amount of the cost sharing contribution?

iv. Project costs (5 percent): The budget is evaluated to determine if it is realistic and commensurate with the project needs and time-frame.

v. Outreach and education (10 percent): NOAA assesses whether this project provides a focused and effective education and outreach strategy regarding NOAA's mission to protect the Nation's natural resources.

• Is there a strong education program with established graduate degree programs in NOAA-related sciences that also encourages student participation in NOAA-related research studies?

Review and Selection Process: An initial administrative review/screening is conducted to determine compliance with requirements/completeness. All proposals will be evaluated and individually ranked in accordance with the assigned weights of the above-listed evaluation criteria by an independent peer review panel. At least three experts, who may be Federal or non-Federal, will be used in this process. If non-Federal experts participate in the review process, each expert will submit an individual review and there will be no consensus opinion. The merit reviewers' ratings are used to produce a rank order of the proposals. The Selecting Official selects proposals after considering the peer reviews and selection factors listed below. In making the final selections, the Selecting Official will award in rank order unless the proposal is justified to be selected out of rank order based upon one or more of the selection factors.

Selection Factors for Projects: The merit review ratings shall provide a rank order to the Selecting Official for final funding recommendations. The Selecting Official shall award in the rank order unless the proposal is justified to be selected out of rank order based upon one or more of the following factors:

i. Availability of funding.

ii. Balance/distribution of funds:

a. Geographically.

b. By type of institutions.

c. By type of partners.

d. By research areas.

e. By project types.

iii. Whether this project duplicates other projects funded or considered for funding by NOAA or other Federal agencies.

iv. Program priorities and policy factors.

v. Applicant's prior award performance.

vi. Partnerships and/or participation of targeted groups.

vii. Adequacy of information necessary for NOAA staff to make a National Environmental Policy Act (NEPA) determination and draft necessary documentation before recommendations for funding are made to the Grants Officer.

Intergovernmental Review: Applications under this program are not subject to Executive Order 12372, “Intergovernmental Review of Federal Programs.”

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 1286: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: July 1, 2008.
Terry Bevels,
Deputy Chief Financial Officer, Office of Oceanic and Atmospheric Research.

[FR Doc. E8-15313 Filed 7-3-08; 8:45 am]

BILLING CODE 3510-KD-P